LEGAL SERVICES CORPORATION

Notice of Funding Availability for Calendar Year 2013 Grant Funds; Request for Applications: 2013 Disaster Relief Emergency Grant Funds

AGENCY: Legal Services Corporation.

ACTION: Notice.

SUMMARY: The Legal Services Corporation (LSC) is the national organization charged with administering federal funds provided for civil legal services to low-income Americans.

This Request for Applications (RFA) announces the availability of $250,000 in LSC emergency grant funds and is soliciting grant applications from current LSC recipients located in a federally-declared disaster area seeking financial assistance to mitigate damage sustained and who have experienced a surge in demand for legal services as the result of Hurricane Sandy. Applications for these funds must be made in tandem with applications for the Disaster Relief Appropriations Act, 2013, Public Law 113-2, 127 Stat. 4. The recipients should submit both applications at the same time and demonstrate how the activities described in each application complement the other.

DATES: The RFA is available the week of May 20, 2013. Legal Services Corporation must receive all applications on or before June 21, 2013, 11:59 p.m., E.D.T. Other key application and filing dates, including the dates for filing grant applications, are published at www.grants.lsc.gov/resources/notices.

ADDRESSES: Office of Program Performance, Legal Services Corporation, 3333 K Street NW., Third Floor, Washington, DC 20007-3522.

FOR FURTHER INFORMATION CONTACT: John Eidleman, Office of Program Performance, by email at disasteremergency@lsc.gov, by phone at (202) 295-1500, or visit the LSC grants Web site at www.grants.lsc.gov.

SUPPLEMENTARY INFORMATION:

On occasion, LSC makes available special funding to help meet the emergency needs of programs in disaster areas. See http://grants.lsc.gov/apply-for-funding/disaster-relief-grants. When funding is available, only current LSC recipients in federally-declared disaster areas, as identified by the Federal Emergency Management Agency (FEMA), are eligible to apply for such emergency funds. Information on federally-declared disaster areas is available at http://www.fema.gov/disasters.

At this time, LSC is making available emergency grant funds for current LSC recipients in federally-declared disaster areas resulting from Hurricane Sandy. The application guidelines will be made available at http://grants.lsc.gov/apply-for-funding/disaster-relief-grants the week of May 20, 2013.

Dated: May 16, 2013.
Atitaya C. Rok,
Staff Attorney.

[FR Doc. 2013-12118 Filed 5-21-13; 8:45 am]

BILLING CODE 7050-01-P